DEPARTMENT OF THE INTERIOR

National Park Service

[NPS-WASO-NAGPRA-NPS0038299; PPWOCRADN0-PCU00RP14.R50000]

Notice of Intended Disposition: U.S. Department of the Interior, Bureau of Reclamation, Region 10: California-Great Basin, Sacramento, CA

AGENCY: National Park Service, Interior.

ACTION: Notice.

SUMMARY: In accordance with the Native American Graves Protection and Repatriation Act (NAGPRA), the U.S. Department of the Interior, Bureau of Reclamation, Region 10: California-Great Basin (Bureau of Reclamation) intends to carry out the disposition of human remains and associated funerary objects, removed from Federal or Tribal lands to the lineal descendants, Indian Tribe, or Native Hawaiian organization with priority for disposition in this notice.

DATES: Disposition of the human remains and associated funerary objects in this notice may occur on or after August 19, 2024. If no claim for disposition is received by July 21, 2025, the human remains and associated funerary objects in this notice will become unclaimed human remains and associated funerary objects.

ADDRESSES: Dr. Melanie Ryan, Bureau of Reclamation, Region 10: California-Great Basin, 2800 Cottage Way, Sacramento, CA 95825, telephone (916) 978-5526, email emryan@usbr.gov.

SUPPLEMENTARY INFORMATION: This notice is published as part of the National Park Service's administrative responsibilities under NAGPRA. The determinations in this notice are the sole responsibility of the Bureau of Reclamation, and additional information on the human remains and associated funerary objects in this notice, including the results of consultation, can be found in the related records. The National Park Service is not responsible for the identifications in this notice.

Abstract of Information Available

Based on the information available, human remains representing, at least, seven individuals of Native American ancestry, have been reasonably identified. The 238 associated funerary objects include 127 faunal remains and 111 cultural items (abalone shells, awls, beads, bifaces, bone tubes, debitage, flake tools, formed flake tools, modified faunal bones, pestles, projectile points).

On November 16, 2022, after months of severe drought, Reclamation identified human remains eroding from the exposed, deflated lake bottom in the draw-down zone at Lake Berryessa, Napa County, California, at a previously recorded site identified as CA-NAP-099. After consultation with the Yocha Dehe Wintun Nation, Reclamation removed three inhumations, numerous disassociated human remains, and funerary objects on November 17 and December 20-23, 2022, as requested by the Nation. No known individuals were identified.

Determinations

The Bureau of Reclamation has determined that:

• The human remains described in this notice represent the physical remains of at least seven individuals of Native American ancestry.

• The 238 objects described in this notice are reasonably believed to have been placed intentionally with or near individual human remains at the time of death or later as part of the death rite or ceremony.

• The Yocha Dehe Wintun Nation, California has priority for disposition of the human remains or cultural items described in this notice.

Claims for Disposition

Written claims for disposition of the human remains and associated funerary objects in this notice must be sent to the appropriate official identified in this notice under ADDRESSES. If no claim for disposition is received by July 21, 2025, the human remains and associated funerary objects in this notice will become unclaimed human remains and associated funerary objects. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and associated funerary objects in this notice may occur on or after August 19, 2024. If competing claims for disposition are received, the Bureau of Reclamation must determine the most appropriate claimant prior to disposition. Requests for joint disposition of the human remains and associated funerary objects are considered a single request and not competing requests. The Bureau of Reclamation is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: July 10, 2024.
Melanie O'Brien,
Manager, National NAGPRA Program.

[FR Doc. 2024-15897 Filed 7-18-24; 8:45 am]

BILLING CODE 4312-52-P